CHEMICAL SAFETY AND HAZARD INVESTIGATION BOARD

Sunshine Act Meeting

The U. S. Chemical Safety and Hazard Investigation Board announces that it will convene a Public Meeting beginning at 10 a.m. local time on July 31, 2002, at 2175 K Street, NW., Suite 400 Conference Room, Washington DC. The Board will discuss and deliberate on staff recommendations regarding an update to the CSB strategic plan for FY 2003. The Board will also consider the status of recommendations from prior CSB investigations and the responses from recipients of those recommendations. Additionally, the CSB staff will present to the Board an update on the Reactive Chemical Hazards Investigation and the close of the public comment period following the public hearing held in Paterson, New Jersey, on May 30, 2002.

CSB investigators will also update the Board on the status of current CSB investigative efforts. The meeting will conclude with an update on current administrative and contracting matters and the resolution of on-going audit issues.

All staff presentations are preliminary and are intended solely to allow the Board to consider in a public forum the relevant issues and factors. No factual analyses, conclusions, or findings should be considered final.

The meeting is open to the public. Please notify CSB if a translator or interpreter is needed, 10 business days prior to the public meeting. For more information, please contact the Chemical Safety and Hazard Investigation Board at (202)-261-7600, or visit our website at: www.csb.gov.

Christopher W. Warner,
General Counsel.

[FR Doc. 02-18172 Filed 7-15-02; 2:04 pm]

BILLING CODE 6350-01-P